ENVIRONMENTAL PROTECTION AGENCY

[FRL-7949-3]

Notice of Proposed Administrative Order on Consent Under the Comprehensive Environmental Response, Compensation and Liability Act of 1980 (CERCLA), as Amended, 42 U.S.C. 9622(h)(1), Creighton Chemical Superfund Site, Creighton, NE, Docket No. CERCLA 07-2005-0310

AGENCY: Environmental Protection Agency.

ACTION: Notice of Proposed Administrative Order on Consent, Creighton Chemical Superfund Site, Creighton, Nebraska.

SUMMARY: Notice is hereby given that a proposed administrative order on consent regarding the Creighton Chemical Superfund Site located in Knox County, Nebraska, will be signed the United States Environmental Protection Agency (EPA) following completion of the public comment period.

DATES: EPA will receive, for a period of thirty (30) days from the date of this publication, written comments relating to the proposed administrative order.

ADDRESSES: Comments should be addressed to Denise L. Roberts, Senior Assistant Regional Counsel, United States Environmental Protection Agency, Region VII, 901 N. 5th Street, Kansas City, Kansas 66101 and should refer to: In the Matter of Creighton Chemical Superfund Site, Creighton, Nebraska, Docket No. CERCLA-07-2005-0310.

The proposed administrative order may be examined or obtained in person or by mail from Denise L. Roberts, United States Environmental Protection Agency, Region VII, 901 N. 5th Street, Kansas City, KS 66101, (913) 551-7559.

SUPPLEMENTARY INFORMATION: This proposed administrative order on consent concerns the Creighton Chemical Superfund Site, located in Creighton, Nebraska. It is made and entered into by EPA and The Estate of Ralph Block (Settling Party).

In response to the release or threatened release of hazardous substances at or from the Site, EPA undertook response actions at the Site pursuant to Section 14 of CERCLA, 42 U.S.C. 9604, and may undertake additional response actions in the future. EPA performed a removal action at the Site. In performing response action at the Site, EPA has incurred response costs and will incur additional response costs in the future.

EPA alleges that Settling Party is a responsible party pursuant to Section 107(a) of CERCLA, 42 U.S.C. 9607(a), and is jointly and severally liable for response costs incurred and to be incurred at the Site. This administrative order requires the Settling Party to pay to the EPA Hazardous Substance Superfund the principal sum of $9,000. EPA covenants not to sue or to take administrative action against Settling Party pursuant to Sections 106 and 107(a) of CERCLA, 42 U.S.C. 9606 and 9607(a).

Dated: July 24, 2005.
James B. Gulliford,
Regional Administrator, United States Environmental Protection Agency, Region VII.

[FR Doc. 05-15746 Filed 8-8-05; 8:45 am]

BILLING CODE 6560-50-P